DEPARTMENT OF JUSTICE

[AAG/A Order No. 017-2004]

Privacy Act of 1974; System of Records

Pursuant to the provisions of the Privacy Act of 1974 (5 U.S.C. 552a), notice is given that the Department of Justice (DOJ or the Department) proposes to establish a new Department-wide system of records entitled “Access Control System (ACS), DOJ-011.” This system notice covers the DOJ-controlled security access system at the Robert F. Kennedy Main Justice Building, as well as any other DOJ-controlled security access systems in buildings where the DOJ operates. This system does not include building access systems that are not under the control of the DOJ, for example systems maintained by the building manager in buildings where the DOJ is a tenant. This system also does not include any separately-noticed security access control systems, such as those of the Federal Bureau of Investigation and the Bureau of Prisons.

This Department-wide system notice replaces, and the Department hereby removes, on the effective date of this notice, the following.

Security Access Control System (SACS), Justice/JMD-014, last published January 8, 1997 at 62 FR 1132.

In accordance with 5 U.S.C. 552a(e)(4) and (11), the public is given a 30-day period in which to comment; and the Office of Management and Budget (OMB), which has oversight responsibility under the Act, requires a 40-day period in which to conclude its review of the system. Therefore, please submit any comments by January 12, 2005. The public, OMB, and the Congress are invited to submit any comments to Mary E. Cahill, Management and Planning Staff, Justice Management Division, Department of Justice, Washington, DC, 20530 (Room 1400, National Place Building).

In accordance with 5 U.S.C. 552a(r), the Department has provided a report to OMB and the Congress.

Dated: November 24, 2004.
Paul R. Corts,
Assistant Attorney General for Administration,

JUSTICE/DOJ-011

SYSTEM NAME:

Access Control System (ACS).

SYSTEM LOCATION:

Records are located at the Department of Justice (DOJ) Robert F. Kennedy Main Justice Building (MJB), 950 Pennsylvania Ave., NW., Washington, DC 20530, and at other buildings with DOJ-controlled access.

CATEGORIES OF INDIVIDUALS COVERED BY THE SYSTEM:

Individuals who have applied for, sought, been considered for, attempted and/or obtained access to the MJB and other buildings, office space, or real property with DOJ-controlled access control systems. May include: current and former DOJ employees, contractors, vendors, grantees, experts, consultants, task force personnel, volunteers, detailees, visitors, and other non-DOJ employees. May also include persons identified as employers, sponsors, references, or contacts for the above individuals.

CATEGORIES OF RECORDS IN THE SYSTEM:

Records may include: names; social security numbers; dates of birth; physical descriptions; badge numbers; information on employer, sponsor, contacts, and/or references; home and/or business addresses and phone numbers; dates and times of entry, exit, and/or passage through control points; signatures, photographs, videos, electronic images, fingerprints, and other biometric identifiers; vehicle identification data; drivers license number; purpose of visit and person visited and/or other related information.

AUTHORITY FOR MAINTENANCE OF THE SYSTEM:

Executive Order 12958, as amended by Executive Order 13292; Title 5 U.S.C. 552a(e)(10); Title 44 U.S.C. chapters 21 and 33. These statutes and Executive Orders are directed toward security of United States Government records maintained by federal agencies. Title 40 U.S.C. chapter 318a; and Title 41 CFR section 102-81.10 and 81.15. This statute and the federal regulations are directed toward security of United States Government buildings and the people therein.

PURPOSE(S):

Records in this system are necessary to maintain the security of the personnel and locations at which the DOJ operates, and of DOJ records, vehicles, property and equipment, and are used to determine eligibility and/or the status of individuals who have applied for, sought, been considered for, attempted and/or obtained access to such locations. Records in this system are also used to maintain control of badges issued for access to locations where the DOJ operates.

ROUTINE USES OF RECORDS MAINTAINED IN THE SYSTEM, INCLUDING CATEGORIES OF USERS AND THE PURPOSES OF SUCH USES:

Records or information from this system of records may be disclosed under the following circumstances when it has been determined by the Department of Justice that such a need exists:

To the news media and the public pursuant to 28 CFR 50.2 unless it is determined that release of the specific information in the context of a particular case would constitute an unwarranted invasion of personal privacy.

To a Member of Congress or staff acting upon the Member's behalf when the Member or staff requests the information on behalf of and at the request of the individual who is the subject of the record.

To the National Archives and Records Administration in records management inspections conducted under the authority of 44 U.S.C. 2904 and 2906.

To any criminal, civil, or regulatory law enforcement authority (whether federal, state, local, territorial, tribal, or foreign) where the information is relevant to the recipient entity's law enforcement responsibilities.

To a governmental entity lawfully engaged in collecting law enforcement, law enforcement intelligence, or national security intelligence information for such purposes.

To any person or entity in either the public or private sector, domestic or foreign, if deemed by the DOJ to be necessary in eliciting information or cooperation from the recipient for use by the DOJ in furthering the purposes of the system, e.g., disclosure of personal identifying information to an associate or employer of a person to confirm the person's identity, suitability, and reason for access to a DOJ facility.

In an appropriate proceeding before a court, or administrative or adjudicative body, when the Department of Justice determines that the records are arguably relevant to the proceeding; or in an appropriate proceeding before an administrative or adjudicative body when the adjudicator holds the records to be relevant to the proceeding.

To an actual or potential party to litigation or the party's authorized representative for the purpose of negotiation or discussion on such matters as settlement, plea bargaining, or in informal discovery proceedings.

To appropriate officials and employees of a federal agency or entity which requires information relevant to a decision concerning the hiring, appointment, or retention of an employee; the issuance, renewal, suspension, or revocation of a security clearance; the execution of a security or suitability investigation; the letting of a contract, or the issuance of a grant or benefit.

To federal, state, local, tribal, foreign, or international licensing agencies or associations which require information concerning the suitability or eligibility of an individual for a license or permit.

To contractors, grantees, experts, consultants, students, and others performing or working on a contract, service, grant, cooperative agreement, or other assignment for the Federal Government, when necessary to accomplish an agency function related to this system of records.

The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

DISCLOSURE TO CONSUMER REPORTING AGENCIES:

Not applicable.

POLICIES AND PRACTICES FOR STORING, RETRIEVING, ACCESSING, RETAINING, AND DISPOSING OF RECORDS IN THE SYSTEM:

STORAGE:

Most information is maintained in computerized form and stored in memory, on disk storage, on computer tape, or other computer media. However, some information may also be maintained in hard copy (paper) or other form.

RETRIEVABILITY:

Information is typically retrieved by name of the individual, other personal identifiers, or by access badge number.

SAFEGUARDS:

Records in this system are maintained in limited access space in DOJ-controlled facilities and offices. Computerized data is password protected. All DOJ personnel are required to pass a background investigation. The information is accessed only by authorized DOJ personnel or by non-DOJ personnel properly authorized to assist in the conduct of an agency function related to these records.

RETENTION AND DISPOSAL:

Records in this system in all formats are maintained and disposed of in accordance with appropriate authority of the National Archives and Records Administration.

SYSTEM MANAGER AND ADDRESS:

For the Main Justice Building and certain satellite offices in the Washington DC Metropolitan Area: Director, Security and Emergency Planning Staff, Justice Management Division, Room 6217, 950 Pennsylvania Ave., NW., Washington, DC 20530.

For other Specific Buildings/Components:

Security System Manager, Justice Data Center—Washington, 1151-D Seven Locks Rd., Rockville, MD 20854;

Security System Manager, Justice Data Center—Dallas, 207 S. Houston St., Dallas, TX 75202;

Chief, Physical Security, Executive Office of U.S. Attorneys, U.S. DOJ.EOUSA-SPS, 600 E Street, NW., Suite 2600, Washington, DC 20530;

Director, Security Programs Staff, Criminal Division, 1331 F Street, NW., Suite 300, Washington, DC 20530;

Deputy Chief Inspector, Office of Security Programs, Drug Enforcement Administration, 700 Army Navy Drive, Arlington, VA 22202;

Chief, Security and Emergency Programs Division, Bureau of Alcohol, Tobacco, Firearms and Explosives, 650 Massachusetts Avenue, NW., Room 2240, Washington, DC 20226;

Security Program Manager, Office of the Inspector General, 950 Pennsylvania Ave., NW., Washington, DC 20530;

Security Programs Manager, Office of Intelligence Policy and Review, Department of Justice, Washington, DC 20530;

Security Programs Manager, Executive Office for Immigration Review, 5107 Leesburg Pike, Suite 2103, Falls Church, VA 22041;

Case Management Specialist, Office of the United States Trustee, 33 Whitehall St., 21st Floor, New York, NY 10004-2112;

Security Programs Manager, United States Marshals Service, United States Marshals Service Headquarters, Washington, DC 20530-1000;

DOJ/INTERPOL-USNCB, 1301 New York Ave., NW., Washington, DC 20530;

Security Program Manager, Tax Division, 555 Fourth St., NW., Washington, DC 20530;

Chief, Office of Security and Classified Programs, National Drug Intelligence Center, 319 Washington St., Johnstown, PA 15901;

NOTIFICATION PROCEDURES:

Same as Record Access Procedures.

RECORD ACCESS PROCEDURES:

A request for access to a record from the system shall be made in writing with the envelope and the letter clearly marked “Privacy Act Request.” Include in the request your full name and complete address. The requester must sign the request; and, to verify it, the signature must be notarized or submitted under 28 U.S.C. 1746, a law that permits statements to be made under penalty of perjury and dated as a substitute for notarization. You may submit any other identifying data you wish to furnish to assist in making a proper search of the system. Requests for access should be addressed to: Facilities and Personnel Group, Security and Emergency Planning Staff, Justice Management Division, Room 6217, U.S. Department of Justice, 950 Pennsylvania Ave., NW., Washington, DC 20530.

CONTESTING RECORD PROCEDURES:

Individuals desiring to contest or amend information maintained in the system should also direct their request to the appropriate System Manager listed above, stating clearly and concisely what information is being contested, the reasons for contesting it, and the proposed amendment to the information sought. Include information requested above for Record Access.

RECORD SOURCE CATEGORIES:

See Categories of Individuals Covered by the System.

EXEMPTIONS CLAIMED BY THE SYSTEM:

None.

[FR Doc. 04-26590 Filed 12-2-04; 8:45 am]

BILLING CODE 4410-FB-P